DEPARTMENT OF HEALTH AND HUMAN SERVICES

Food and Drug Administration

Advisory Committee for Pharmaceutical Science; Amendment of Notice

AGENCY: Food and Drug Administration, HHS.

ACTION: Notice.

The Food and Drug Administration (FDA) is announcing an amendment to the notice of meeting of the Advisory Committee for Pharmaceutical Science. This meeting was announced in the Federal Register of February 3, 2003 (68 FR 5297). The amendment is being made to reflect a change in the Agenda portion of the document. There are no other changes.

FOR FURTHER INFORMATION CONTACT: Kathleen Reedy or LaNise Giles, Center for Drug Evaluation and Research (HFD-21), Food and Drug Administration, 5600 Fishers Lane (for express delivery, 5630 Fishers Lane, rm. 1093), Rockville, MD 20857, 301-827-7001, or FDA Advisory Committee Information Line, 1-800-741-8138 (301-443-0572 in the Washington, DC area), code 12539. Please call the Information Line for up-to-date information on this meeting.

SUPPLEMENTARY INFORMATION: In the Federal Register of February 3, 2003 (68 FR 5297), FDA announced that a meeting of the Advisory Committee for Pharmaceutical Science would be held on March 12 and 13, 2003. On page 5298, in the first column, the second sentence in the Agenda portion of the document is amended to read as follows:

On March 13, 2003, the committee will: (1) Discuss and provide direction for future subcommittee: Pharmacology/Toxicology Subcommittee; (2) receive an update on the Office of Pharmaceutical Science research projects; (3) discuss and provide comments on dose content uniformity, parametric interval test for aerosol products; (4) discuss and provide comments on bioequivalence/bioavailability of endogenous drugs; and (5) discuss and provide comments on comparability protocols.

Notice of this meeting is given under the Federal Advisory Committee Act (5 U.S.C. app. 2).

Dated: February 26, 2003.
William K. Hubbard,
Associate Commissioner for Policy and Planning.

[FR Doc. 03-4975 Filed 3-3-03; 8:45 am]

BILLING CODE 4160-01-S